POSTAL SERVICE

Product Change—Priority Mail Express, Priority Mail, and USPS Ground Advantage Negotiated Service Agreements & Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: February 11, 2026.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with postal regulatory commission | Negotiated Service Agreement product category and No. | MC docket No. | K docket No.
01/27/26 | PME-PM-GA 1480 | MC2026-152 | K2026-152
02/04/26 | PME-PM-GA 1481 | MC2026-154 | K2026-154
02/04/26 | PME-PM-GA 1482 | MC2026-155 | K2026-155
02/04/26 | PME-PM-GA 1483 | MC2026-156 | K2026-156
02/04/26 | PME-PM-GA 1484 | MC2026-157 | K2026-157
02/04/26 | PME-PM-GA 1485 | MC2026-158 | K2026-158
02/04/26 | PME-PM-GA 1486 | MC2026-159 | K2026-159
01/30/26 | PM 952 | MC2026-160 | K2026-160
02/03/26 | PME-PM-GA 1487 | MC2026-161 | K2026-161
02/03/26 | PME-PM-GA 1488 | MC2026-162 | K2026-162
02/05/26 | PM 953 | MC2026-163 | K2026-163
02/06/26 | PME-PM-GA 1489 | MC2026-164 | K2026-164

Documents are available at www.prc.gov.

Sean C. Robinson,
Attorney, Corporate and Postal Business Law.

[FR Doc. 2026-02658 Filed 2-10-26; 8:45 am]

BILLING CODE 7710-12-P